DEPARTMENT OF AGRICULTURE

Submission for OMB Review; Comment Request

October 3, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by November 8, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Agricultural Labor Survey.

OMB Control Number: 0535-0109.

Summary of Collection: The 1938 Agricultural Adjustment Act, as amended, requires USDA to compute parity prices of farm products. This computation uses an index of Prices Paid by Farmers which in turn is composed of five indexes, one of which is an index of wage rates. These estimates measure actual agricultural wage rates and the year-to-year changes. General authority for these data collection activities is granted under U.S. Code Title 7, Section 2204. Agricultural labor statistics are an integral part of National Agricultural Statistics Service (NASS) primary function of collecting, processing, and disseminating current state, regional, and national agricultural statistics. Comprehensive and reliable agricultural labor data are also needed by the Department of Labor in the administration of the “H-2A” program (non-immigrants who enter the United States for temporary or seasonal agricultural labor) and for setting “Adverse Effect Wage Rates.” The Agricultural Labor Survey is the only timely and reliable source of information on the size of the farm worker population. NASS will collect information using a survey.

In this substantive change renewal, NASS has been directed by the USDA to expand the survey to add greater detail to the summarized data. This will involve an increase in the currently approved sample size to collect more data on agricultural labor that is performed under each of the standard occupational classification (SOC) codes. In addition NASS will resume collecting data on a quarterly basis rather than biannual basis which collected the quarterly data. This should help to reduce the potential for any memory bias that may have occurred previously. This change is expected to take place in January 2019, contingent on the passage of the 2019 FY Federal Budget. If there is a delay in the passage of the Federal Budget the changes will take place in July 2019. In addition the biannual survey will be conducted in April 2019 and the data for the January and April quarters will be collected as they are currently approved. After that the data collections will collect data on a quarterly basis. Response to these data collections by the sampled farm and ranch operators is on a voluntary basis.

Need and Use of the Information: NASS will collect information on wage rate estimates and the year-to-year changes in these rates and how changes in wage rates help measure the changes in costs of production of major farm commodities. NASS will also collect Standard Occupational Classifications data information for field workers, livestock workers, supervisors and other workers to measure the availability of national farm workers. The information is used by farm worker organizations to help set wage rates and negotiate labor contracts as well as determine the need for additional workers and to help ensure federal assistance for farm worker assistance programs supported with government funding.

Description of Respondents: Farms.

Number of Respondents: 40,050.

Frequency of Responses: Reporting: Quarterly; Annually.

Total Burden Hours: 44,901.

Ruth Brown,
Departmental Information Collection Clearance Officer.

[FR Doc. 2018-21828 Filed 10-5-18; 8:45 am]

BILLING CODE P